DEPARTMENT OF HOMELAND SECURITY

Bureau of Customs and Border Protection

19 CFR Part 101

[CBP Dec. 05-38]

Extension of Port Limits of Rockford, IL

AGENCY: Customs and Border Protection; Department of Homeland Security.

ACTION: Final rule.

SUMMARY: This rule amends the Department of Homeland Security regulations pertaining to the field organization of the Bureau of Customs and Border Protection by extending the geographical limits of the port of entry at Rockford, Illinois, to include the City of Rochelle, Illinois. The extension of the port is necessary to accommodate the Union Pacific Railroad Company's new intermodal facility in Rochelle. This change is part of the Bureau of Customs and Border Protection's continuing program to utilize more efficiently its personnel, facilities, and resources, and to provide better service to carriers, importers, and the general public.

DATES: Effective Date: February 16, 2006.

FOR FURTHER INFORMATION CONTACT: Dennis Dore, Office of Field Operations, 202-344-2776.

SUPPLEMENTARY INFORMATION:

Background

The Union Pacific Railroad Company has a new state-of-the-art intermodal rail facility that is located 25 miles south of Rockford in Rochelle, Illinois. This facility provides the capacity necessary to support the efficient interchange of shipments to and from rail connections and to expedite the operation of trains and containers. In order to accommodate this new facility, and provide better service to carriers, importers, and the public, the Bureau of Customs and Border Protection (CBP) is extending the port limits of the port of Rockford, Illinois, to include the City of Rochelle, Illinois.

A Notice of Proposed Rulemaking concerning this extension was published in the Federal Register (69 FR 50107) on August 13, 2004. No comments were received in response to the Notice of Proposed Rulemaking. As CBP believes that the extension of the Port of Rockford, Illinois, to include the City of Rochelle, will improve service to importers and the rail transportation industry in Illinois, CBP is expanding the limits of the port of Rockford as proposed.

New Port Limits of Rockford, Illinois

CBP extends the limits of the port of Rockford, Illinois, to include the City of Rochelle, Illinois, so that the description of the limits of port reads as follows:

Bounded to the north by the Illinois/Wisconsin border; bounded to the west by Illinois State Route 26; bounded to the south by Interstate Route 88; bounded to the east by Illinois State Route 23 to the Wisconsin/Illinois border.

Authority

This change is being made under the authority of 5 U.S.C. 301 and 19 U.S.C. 2, 66 and 1624, and the Homeland Security Act of 2002, Public Law 107-296 (November 25, 2002).

The Regulatory Flexibility Act and Executive Order 12866

With DHS approval, CBP establishes, expands, and consolidates CBP ports of entry throughout the United States to accommodate the volume of CBP-related activity in various parts of the country. It also will not have significant economic impact on a substantial number of small entities. Accordingly, it is certified that this document is not subject to the additional requirements of the provisions of the Regulatory Flexibility Act (5 U.S.C. 601 et seq.).

In addition, DHS and the Office of Management and Budget have determined that this final rule does not constitute a significant regulatory action as defined under Executive Order 12866.

Signing Authority

The signing authority for this document falls under 19 CFR 0.2(a). Accordingly, the final rule is signed by the Secretary of Homeland Security.

List of Subjects in 19 CFR Part 101

Customs ports of entry, Exports, Imports, Organization and functions (Government Agencies).

Amendment to the Regulations

For the reasons set forth above, 19 CFR part 101 is amended as set forth below.

PART 101—GENERAL PROVISIONS

1. The general authority citation for part 101 is revised and the specific authority provision for § 101.3 continues to read as follows:

Authority: 5 U.S.C. 301; 19 U.S.C. 2, 66, 1202 (General Note 3(i), Harmonized Tariff Schedule of the United States), 1623, 1624, 1646a.

Sections 101.3 and 101.4 also issued under 19 U.S.C. 1 and 58b;

* * * * *

§ 101.3 [Amended]

2. In the list of ports in § 101.3(b)(1), under the state of Illinois, the “Limits of port” column adjacent to “Rockford” in the “Ports of entry” column is amended by removing the citation “T.D. 95-62” and adding in its place “CBP Dec. 05-38”.

Dated: January 3, 2006.
Michael Chertoff,
Secretary.

[FR Doc. 06-359 Filed 1-13-06; 8:45 am]

BILLING CODE 9110-06-U